DEPARTMENT OF ENERGY

Federal Energy Regulatory Commission

Combined Notice of Filings

Take notice that the Commission has received the following Natural Gas Pipeline Rate and Refund Report filings:

Filings Instituting Proceedings

Docket Numbers: CP17-78-000.

Applicants: B&W Pipeline, Inc.

Description: Application for Limited Jurisdiction Blanket Certificate and Request for Expedited Action of B&W Pipeline, Inc.

Filed Date: 03/16/2017.

Accession Number: 20170317-5191.

Comment Date: 5:00 p.m. Eastern Time on Friday, April 07, 2017.

Docket Numbers: RP16-137-012.

Applicants: Tallgrass Interstate Gas Transmission, L.

Description: Tallgrass Interstate Gas Transmission, LLC submits tariff filing per 154.203: Cancellation of TIGT 5th Revised Volume No. 1 Tariff to be effective 4/1/2017.

Filed Date: 03/17/2017.

Accession Number: 20170317-5186.

Comment Date: 5:00 p.m. Eastern Time on Wednesday, March 29, 2017.

Docket Numbers: RP17-541-000.

Applicants: Iroquois Gas Transmission System, L.P.

Description: Iroquois Gas Transmission System, L.P. submits tariff filing per 154.204: 03/17/17 Negotiated Rates—Consolidated Edison Energy Inc. (HUB) 2275-89 to be effective 3/16/2017.

Filed Date: 03/17/2017.

Accession Number: 20170317-5062.

Comment Date: 5:00 p.m. Eastern Time on Wednesday, March 29, 2017.

Docket Numbers: RP17-542-000.

Applicants: ANR Pipeline Company.

Description: ANR Pipeline Company submits tariff filing per 154.601: Shell Energy FTS-1 NC Agreement to be effective 4/1/2017.

Filed Date: 03/17/2017.

Accession Number: 20170317-5107.

Comment Date: 5:00 p.m. Eastern Time on Wednesday, March 29, 2017.

Docket Numbers: RP17-543-000.

Applicants: Ryckman Creek Resources, LLC.

Description: Ryckman Creek Resources, LLC submits tariff filing per 154.204: Non Conforming Service Agreements to be effective 4/1/2017.

Filed Date: 03/17/2017.

Accession Number: 20170317-5124.

Comment Date: 5:00 p.m. Eastern Time on Friday, March 24, 2017.

Docket Numbers: RP13-459-000.

Applicants: Trailblazer Pipeline Company LLC.

Description: Trailblazer Pipeline Company LLC submits tariff filing per 154.501: 2016 Penalty Revenue Credit Report.

Filed Date: 03/20/2017.

Accession Number: 20170320-5168.

Comment Date: 5:00 p.m. Eastern Time on Monday, April 03, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2017.
Nathaniel J. Davis, Sr.,
Deputy Secretary.

[FR Doc. 2017-06159 Filed 3-28-17; 8:45 am]

BILLING CODE 6717-01-P